DEPARTMENT OF COMMERCE

International Trade Administration

Federal Highway Administration Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 A.M. and 5 P.M. in Suite 4100W, U.S. Department of Commerce, Franklin Court Buildng, 1099 14th Street, NW, Washington, DC.

Docket Number: 01-018. Applicant: Federal Highway Administration, McLean, VA 22101-2296. Instrument: Automated Ultrasonic Inspection System, Model P-scan 4 Lite. Manufacturer: Force Institute, Denmark. Intended Use: See notice at 66 FR 55913, November 5, 2001.

Comments: None received. Decision: Approved. No instrument of equivalent scientific value to the foreign instrument, for such purposes as it is intended to be used, is being manufactured in the United States. Reasons: The foreign instrument provides: (1) An extra degree of freedom allowing rotation of the transducer and three-dimensional representation of the defect in a weld, (2) automated operation and (3) a unique software/hardware configuration to optimize use by the operator and system performance in the field. A domestic manufacturer of similar equipment advised January 10, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Director, Statutory Import Programs Staff.

[FR Doc. 02-1521 Filed 1-18-02; 8:45 am]

BILLING CODE 3510-DS-P